DEPARTMENT OF ENERGY

Federal Energy Regulatory Commission

[Docket No. EL14-73-000]

The Empire District Electric Company; Notice of Institution of Section 206 Proceeding and Refund Effective Date

On July 17, 2014, the Commission issued an order in Docket No. EL14-73-000, pursuant to section 206 of the Federal Power Act (FPA), 16 U.S.C. 824e (2012), instituting an investigation into the justness and reasonableness of The Empire District Electric Company's formula rate protocols under the Empire Open Access Transmission, Energy and Operating Reserve Markets Tariff, and Southwest Power Pool, Inc. Open Access Transmission Tariff. The Empire District Electric Company, 148 FERC ¶ 61,030 (2014).

The refund effective date in Docket No. EL14-73-000, established pursuant to section 206(b) of the FPA, will be the date of publication of this notice in the Federal Register.

Dated: July 17, 2014.
Nathaniel J. Davis, Sr.,
Deputy Secretary.

[FR Doc. 2014-17301 Filed 7-22-14; 8:45 am]

BILLING CODE 6717-01-P